OFFICE OF NATIONAL DRUG CONTROL POLICY

Meeting of the Advisory Commission on Drug Free Communities

AGENCY: Office of National Drug Control Policy.

ACTION: Notice of meeting.

SUMMARY: In accordance with the Drug-Free Communities Act, a meeting of the Advisory Commission on Drug Free Communities will be held on June 27 and 28, 2007 at the Office of National Drug Control Policy in the 5th Floor Conference Room, 750 17th Street, NW., Washington, DC. The meeting will commence at 8:30 a.m. on Wednesday, June 27th, 2007 and adjourn for the evening at 5 p.m. The meeting will reconvene at 8:30 a.m. on Thursday, June 28th, 2007 in the same location. The meeting will adjourn at 4 p.m. on Thursday, June 28th, 2007. The agenda is slated to include: Remarks by ONDCP Director John P. Walters, remarks by the DFC Program's Administrator, Jack Claypoole, and remarks by Policy Analyst Ken Shapiro. There will also be a discussion of the program's evaluation, a discussion about the reauthorization of the Drug Free Communities Program, a review of the new grant process, and an update from the Substance Abuse and Mental Health Services Administration. There will be an opportunity for public comment from 9-9:30 on Thursday, June 28th, 2007. Members of the public who wish to attend the meeting and/or make public comment should contact ShaNice Stokes, at (202) 395-6699 to arrange building access.

FOR FURTHER INFORMATION CONTACT: Linda V. Priebe, (202) 395-6622.

Dated: May 4, 2007.
Linda V. Priebe,
Assistant General Counsel.

[FR Doc. E7-10390 Filed 5-30-07; 8:45 am]

BILLING CODE 3180-02-P